DEPARTMENT OF STATE

[Public Notice 3512]

Bureau of Nonproliferation; Determination Under the Arms Export Control Act

AGENCY: Department of State.

ACTION: Notice.

Pursuant to section 654(c) of the Foreign Assistance Act of 1961, as amended, notice is hereby given that the Department of State has made a determination pursuant to Section 73 of the Arms Export Control Act. The Department has concluded that publication of the determination would be harmful to the national security of the United States.

Dated: December 4, 2000.
Robert J. Einhorn,
Assistant Secretary of State for Nonproliferation.

[FR Doc. 00-32311 Filed 12-18-00; 8:45 am]

BILLING CODE 4710-25-P